DEPARTMENT OF ENERGY

Federal Energy Regulatory Commission

[Project No. 12470-001—Oklahoma]

City of Broken Bow, OK; Broken Bow Re-Regulation Dam; Hydropower Project; Notice of Proposed Restricted Service List for a Programmatic Agreement for Managing Properties Included in or Eligible for Inclusion in the National Register of Historic Places

June 8, 2010.

Rule 2010 of the Federal Energy Regulatory Commission's (Commission) Rules of Practice and Procedure provides that, to eliminate unnecessary expense or improve administrative efficiency, the Secretary may establish a restricted service list for a particular phase or issue in a proceeding.¹ The restricted service list should contain the names of persons on the service list who, in the judgment of the decisional authority establishing the list, are active participants with respect to the phase or issue in the proceeding for which the list is established.

¹ 18 CFR section 385.2010.

The Commission staff is consulting with the Oklahoma State Historic Preservation Officer (hereinafter, Oklahoma SHPO), and the Advisory Council on Historic Preservation (hereinafter, Advisory Council) pursuant to the Advisory Council's regulations, 36 CFR Part 800, implementing section 106 of the National Historic Preservation Act, as amended (16 U.S.C. section 470 f), to prepare and execute a programmatic agreement for managing properties included in, or eligible for inclusion in, the National Register of Historic Places at the Broken Bow Re-Regulation Dam Hydropower Project No. 12470-001 (Oklahoma SHPO File Number 1069-05).

The programmatic agreement when executed by the Commission and the Oklahoma SHPO would satisfy the Commission's section 106 responsibilities for all individual undertakings carried out in accordance with the license until the license expires or is terminated (36 CFR 800.13[e]). The Commission's responsibilities pursuant to section 106 for the Broken Bow Re-Regulation Dam Hydropower Project would be fulfilled through the programmatic agreement, which the Commission proposes to draft in consultation with certain parties listed below. The executed programmatic agreement would be incorporated into any Order issuing a license.

City of Broken Bow, Oklahoma, as licensee for Broken Bow Re-Regulation Dam Hydropower Project No. 12470, the Choctaw Nation of Oklahoma, Oklahoma Archeological Survey, U.S. Army Corps of Engineers, U.S. Forest Service, and HISINC, LLC, have expressed an interest in this preceding and are invited to participate in consultations to develop the programmatic agreement.

For purposes of commenting on the programmatic agreement, we propose to restrict the service list for the aforementioned project as follows:

Reid Nelson or Representative, Advisory Council on Historic Preservation, The Old Post Office Building, Suite 803, 1100 Pennsylvania Avenue, NW., Washington, DC 20004 | Robert L. Brooks or Representative, State Archaeologist, Oklahoma Archeological Survey, 111 E. Chesapeake Street, Norman, OK 73019-5111.
Terry Cole, Tribal Historic Preservation Officer, Choctaw Nation of Oklahoma, P.O. Box 1210, Durant, OK 74702-1210 | Melvena Heisch or Representative, Deputy SHPO, Oklahoma Historical Society, 2401 N. Laird Avenue, Oklahoma City, OK 73105.
Michael Graves, Hall Estil Attorneys at Law, 320 South Boston Ave., Suite 400, Tulsa, OK 74103 | Scott Henderson, U.S. Army Corps of Engineers, Tulsa District, 1645 S. 101st East Avenue, Tulsa, OK 74128.
Meeks Etchieson, U.S. Forest Service, Ouachita National Forest, 100 Reserve St., Hot Springs, AR 71901 | Willard B. Smith, P.E., CFM, HISINC, LLC, 28508 W. 41st Street South, Mannford, OK 74044.

Any person on the official service list for the above-captioned proceeding may request inclusion on the restricted service list, or may request that a restricted service list not be established, by filing a motion to that effect within 15 days of this notice date. In a request for inclusion, please identify the reason(s) why there is an interest to be included. Also please identify any concerns about historic properties, including Traditional Cultural Properties. If historic properties are identified within the motion, please use a separate page, and label it NON-PUBLIC Information.

An original and 8 copies of any such motion must be filed with Kimberly D. Bose, the Secretary of the Commission (888 First Street, NE., Washington, DC 20426) and must be served on each person whose name appears on the official service list. Please put “Broken Bow Re-Regulation Dam Hydropower Project No. 12470-001” on the front cover of any motion. Motions may be filed electronically via the Internet in lieu of paper. The Commission strongly encourages electronic filings. See 18 CFR 385.2001(a)(1)(iii) and the instructions on the Commission's Web site (http://www.ferc.gov) under the “e-Filing” link.

If no such motions are filed, the restricted service list will be effective at the end of the 15-day period. Otherwise, a further notice will be issued ruling on any motion or motions filed within the 15-day period.

Kimberly D. Bose,
Secretary.

[FR Doc. 2010-14306 Filed 6-14-10; 8:45 am]

BILLING CODE 6717-01-P